DEPARTMENT OF HOMELAND SECURITY

Federal Emergency Management Agency

[Docket ID FEMA-2018-0002; Internal Agency Docket No. FEMA-B-1843]

Proposed Flood Hazard Determinations

AGENCY: Federal Emergency Management Agency, DHS.

ACTION: Notice.

SUMMARY: Comments are requested on proposed flood hazard determinations, which may include additions or modifications of any Base Flood Elevation (BFE), base flood depth, Special Flood Hazard Area (SFHA) boundary or zone designation, or regulatory floodway on the Flood Insurance Rate Maps (FIRMs), and where applicable, in the supporting Flood Insurance Study (FIS) reports for the communities listed in the table below. The purpose of this notice is to seek general information and comment regarding the preliminary FIRM, and where applicable, the FIS report that the Federal Emergency Management Agency (FEMA) has provided to the affected communities. The FIRM and FIS report are the basis of the floodplain management measures that the community is required either to adopt or to show evidence of having in effect in order to qualify or remain qualified for participation in the National Flood Insurance Program (NFIP). In addition, the FIRM and FIS report, once effective, will be used by insurance agents and others to calculate appropriate flood insurance premium rates for new buildings and the contents of those buildings.

DATES: Comments are to be submitted on or before November 7, 2018.

ADDRESSES: The Preliminary FIRM, and where applicable, the FIS report for each community are available for inspection at both the online location https://www.fema.gov/preliminaryfloodhazarddata and the respective Community Map Repository address listed in the tables below. Additionally, the current effective FIRM and FIS report for each community are accessible online through the FEMA Map Service Center at https://msc.fema.gov for comparison.

You may submit comments, identified by Docket No. FEMA-B-1843, to Rick Sacbibit, Chief, Engineering Services Branch, Federal Insurance and Mitigation Administration, FEMA, 400 C Street SW, Washington, DC 20472, (202) 646-7659, or (email) patrick.sacbibit@fema.dhs.gov.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Map Information eXchange (FMIX) online at https://www.floodmaps.fema.gov/fhm/fmx_main.html.

SUPPLEMENTARY INFORMATION: FEMA proposes to make flood hazard determinations for each community listed below, in accordance with section 110 of the Flood Disaster Protection Act of 1973, 42 U.S.C. 4104, and 44 CFR 67.4(a).

These proposed flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. These flood hazard determinations are used to meet the floodplain management requirements of the NFIP and are used to calculate the appropriate flood insurance premium rates for new buildings built after the FIRM and FIS report become effective.

The communities affected by the flood hazard determinations are provided in the tables below. Any request for reconsideration of the revised flood hazard information shown on the Preliminary FIRM and FIS report that satisfies the data requirements outlined in 44 CFR 67.6(b) is considered an appeal. Comments unrelated to the flood hazard determinations also will be considered before the FIRM and FIS report become effective.

Use of a Scientific Resolution Panel (SRP) is available to communities in support of the appeal resolution process. SRPs are independent panels of experts in hydrology, hydraulics, and other pertinent sciences established to review conflicting scientific and technical data and provide recommendations for resolution. Use of the SRP only may be exercised after FEMA and local communities have been engaged in a collaborative consultation process for at least 60 days without a mutually acceptable resolution of an appeal. Additional information regarding the SRP process can be found online at https://www.floodsrp.org/pdfs/srp_overview.pdf.

The watersheds and/or communities affected are listed in the tables below. The Preliminary FIRM, and where applicable, FIS report for each community are available for inspection at both the online location https://www.fema.gov/preliminaryfloodhazarddata and the respective Community Map Repository address listed in the tables. For communities with multiple ongoing Preliminary studies, the studies can be identified by the unique project number and Preliminary FIRM date listed in the tables. Additionally, the current effective FIRM and FIS report for each community are accessible online through the FEMA Map Service Center at https://msc.fema.gov for comparison.

(Catalog of Federal Domestic Assistance No. 97.022, “Flood Insurance.”)

David I. Maurstad,
Deputy Associate Administrator for Insurance and Mitigation, Department of Homeland Security, Federal Emergency Management Agency.

Community | Community map repository address
Benton County, Iowa and Incorporated Areas
Project: 17-07-0295S Preliminary Date: March 27, 2018
City of Atkins | City Hall, 480 3rd Avenue, Atkins, IA 52206.
City of Belle Plaine | City Hall, 1207 8th Avenue, Belle Plaine, IA 52208.
City of Blairstown | City Hall, 305 Locust Street Northwest, Blairstown, IA 52209.
City of Garrison | Garrison Public Library, 201 East Pine Street, Garrison, IA 52229.
City of Keystone | City Hall, 208 1st Street, Keystone, IA 52249.
City of Newhall | City Hall, 220 1st Street East, Newhall, IA 52315.
City of Norway | City Hall, 108 Railroad Street, Norway, IA 52318.
City of Shellsburg | City Hall, 108 Main Street Southeast, Shellsburg, IA 52332.
City of Urbana | City Hall, 102 Capitol Avenue, Urbana, IA 52345.
City of Van Horne | City Hall, 114 Main Street, Van Horne, IA 52346.
City of Vinton | City Hall, 110 West 3rd Street, Vinton, IA 52349.
Unincorporated Areas of Benton County | Benton County Courthouse, 111 East 4th Street, Vinton, IA 52349.
Grundy County, Iowa and Incorporated Areas
Project: 17-07-0295S Preliminary Date: March 27, 2018
City of Beaman | City Hall, 227 Main Street, Beaman, IA 50609.
City of Conrad | City Hall, 204 East Center Street, Conrad, IA 50621.
City of Dike | City Hall, 540 Main Street, Dike, IA 50624.
City of Grundy Center | City Hall, 703 F Avenue, Suite 2, Grundy Center, IA 50638.
City of Holland | City Hall, 106 Main Street, Holland, IA 50642.
City of Morrison | City Hall, 204 Sycamore Street, Morrison, Iowa 50657.
City of Reinbeck | City Hall, 414 Main Street, Reinbeck, IA 50669.
City of Wellsburg | City Hall, 515 North Adams Street, Wellsburg, IA 50680.
Unincorporated Areas of Grundy County | County Engineer's Office, 22580 M Avenue, Grundy Center, IA 50638.
Hamilton County, Iowa and Incorporated Areas
Project: 16-07-2061S Preliminary Date: March 27, 2018
City of Ellsworth | City Hall, 1528 DeWitt Street, Ellsworth, IA 50075.
City of Jewell | City Hall, 701 Main Street, Jewell, IA 50130.
City of Kamrar | City Hall, 414 Elm Street, Kamrar, IA 50132.
City of Webster City | City Hall, 400 2nd Street, Webster City, IA 50595.
Unincorporated Areas of Hamilton County | Hamilton County Courthouse, 2300 Superior Street, Suite 4, Webster City, IA 50595.
Butler County, Kansas and Incorporated Areas
Project: 14-07-2609S and 14-07-2610S Preliminary Date: January 31, 2018
City of Augusta | City Hall, 113 East 6th Avenue, Augusta, KS 67010.
City of El Dorado | Engineering Building, 216 North Vine Street, El Dorado, KS 67042.
Unincorporated Areas of Butler County | Butler County Courthouse, 205 West Central Avenue, El Dorado, KS 67042.
Norman County, Minnesota and Incorporated Areas
Project: 16-05-5324S Preliminary Date: April 12, 2018
City of Halstad | Administrative Building, 405 2nd Avenue West, Halstad, MN 56548.
City of Hendrum | Administrative Building, 308 Main Street East, Hendrum, MN 56550.
Unincorporated Areas of Norman County | County Court House, 16 3rd Avenue East, Ada, MN 56510.
Warren County, Ohio and Incorporated Areas
Project: 14-05-6084S Preliminary Date: March 28, 2018
City of Carlisle | City Hall, 760 West Central Avenue, Carlisle, OH 45005.
City of Franklin | City Building, 1 Benjamin Franklin Way, Franklin, OH 45005.

[FR Doc. 2018-17077 Filed 8-8-18; 8:45 am]

BILLING CODE 9110-12-P